DEPARTMENT OF VETERANS AFFAIRS

Enhanced-Use Lease Development of Property at the Spark M. Matsunaga Department of Veterans Affairs Medical and Regional Office Center, Honolulu, Hawaii

AGENCY: Department of Veterans Affairs.

ACTION: Notice of Designation and Intent to Award.

SUMMARY: The Secretary of the Department of Veterans Affairs (VA) is designating the Spark M. Matsunaga VA Medical and Regional Office Center, Honolulu, HI, for an enhanced-use leasing development. The Department intends to enter into a 5-year lease of real property with a competitively selected lessee/developer who will finance, design, develop, maintain and manage a transitional housing and homeless services facility, all at no cost to VA.

FOR FURTHER INFORMATION CONTACT: Jake Gallun, Office of Asset Enterprise Management (004B), Department of Veterans Affairs, 810 Vermont Avenue, NW. Washington, DC 20420, (202) 273-8862.

SUPPLEMENTARY INFORMATION: 38 U.S.C. 8161 et seq., specifically provides that the Secretary may enter into an enhanced-use lease if he determines that at least part of the use of the property under the lease will be to provide appropriate space for an activity contributing to the mission of the Department; the lease will not be inconsistent with and will not adversely affect the mission of the Department; and the lease will enhance the property or result in improved services to veterans. This project meets these requirements.

Approved: January 25, 2002.
Anthony J. Principi,
Secretary of Veterans Affairs.

[FR Doc. 02-2698 Filed 2-4-02; 8:45 am]

BILLING CODE 8320-01-M